DEPARTMENT OF AGRICULTURE

Animal and Plant Health Inspection Service

7 CFR Part 301

[Docket No. 98-082-6]

Mexican Fruit Fly Regulations; Removal of Regulated Area

AGENCY: Animal and Plant Health Inspection Service, USDA.

ACTION: Affirmation of interim rule as final rule.

SUMMARY: We are adopting as a final rule, without change, an interim rule that amended the Mexican fruit fly regulations by removing the regulated portion of San Diego County, CA, from the list of regulated areas. We have determined that the Mexican fruit fly has been eradicated from this area and that restrictions on the interstate movement of regulated articles from this area are no longer necessary to prevent the spread of the Mexican fruit fly into noninfested areas of the United States. This action relieves unnecessary restrictions on the interstate movement of regulated articles from the previously regulated area. As a result of the interim rule, there are no longer any areas regulated for the Mexican fruit fly in the State of California.

EFFECTIVE DATE: The interim rule became effective on July 25, 1999.

FOR FURTHER INFORMATION CONTACT: Mr. Michael Stefan, Operations Officer, Invasive Species and Pest Management Staff, PPQ, APHIS, 4700 River Road Unit 134, Riverdale, MD 20737-1236; (301) 734-8247.

In an interim rule effective July 25, 1999, and published in the Federal Register on July 26, 1999 (64 FR 40281-40282, Docket No. 98-082-5), we amended the Mexican fruit fly regulations (contained in 7 CFR 301.64 through 301.64-10) by removing a portion of San Diego County, CA, from the list of regulated areas in § 301.64-3(c). That action relieved unnecessary restrictions on the interstate movement of regulated articles from this area. As a result of that action, there are no longer any areas regulated for the Mexican fruit fly in the State of California.

Comments on the interim rule were required to be received on or before September 24, 1999. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 64 FR 40281-40282 on July 26, 1999.

Authority: Title IV, Pub. L. 106-224, 114 Stat. 438, 7 U.S.C. 7701-7772; 7 U.S.C. 166; 7 CFR 2.22, 2.80, and 371.3.

Done in Washington, DC, this 18th day of August 2000.
Bobby R. Acord,
Acting Administrator, Animal and Plant Health Inspection Service.

[FR Doc. 00-21646 Filed 8-23-00; 8:45 am]

BILLING CODE 3410-34-P